DEPARTMENT OF TRANSPORTATION

Federal Aviation Administration

14 CFR Part 71

[Docket No. FAA-2023-2448; Airspace Docket No. 23-AAL-65]

RIN 2120-AA66

Modification of Class E Airspace; Ralph M. Calhoun Memorial Airport, Tanana, AK

AGENCY: Federal Aviation Administration (FAA), DOT.

ACTION: Final rule.

SUMMARY: This action modifies the Class E airspace designated as a surface area and modifies the Class E airspace extending upward from 700 feet above the surface at Ralph M. Calhoun Memorial Airport, Tanana, AK. These modifications correct administrative errors contained within a previous airspace action and support the safety and management of instrument flight rules (IFR) operations at the airport.

DATES: Effective date 0901 UTC, March 21, 2024. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Class E airspace legal descriptions to support IFR operations at Ralph M. Calhoun Memorial Airport, Tanana, AK.

History

The FAA published a final rule for Docket No. FAA-2022-1471 in the Federal Register (88 FR 63516; September 15, 2023), effective November 30, 2023, which modified the Class E airspace at Ralph M. Calhoun Memorial Airport, AK. Subsequent to the effective date, the FAA discovered that the legal descriptions within the final rule inadvertently used magnetic bearings instead of true bearings. Only true bearings are to be used within regulatory airspace legal descriptions, so the magnetic bearings used within the previous airspace descriptions were erroneously interpreted and charted as if they were true bearings. This action corrects the error by updating the Class E airspace legal descriptions with true bearings.

Incorporation by Reference

Class E2 and E5 airspace areas are published in paragraphs 6002 and 6005, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the legal descriptions of the Class E airspace designated as a surface area and the Class E airspace extending upward from 700 feet above the surface at Ralph M. Calhoun Memorial Airport, AK.

This action is an administrative change to correct errors within the final rule of Docket No. FAA-2022-1471, which erroneously described the airspace using magnetic instead of true bearings; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1.The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11H, Airspace Designations and Reporting Points, dated August 11, 2023, and effective September 15, 2023, is amended as follows:

Paragraph 6002 Class E Airspace Areas Designated as a Surface Area.

* * * * *

AAL AK E2 Tanana, AK [Amended]

Ralph M. Calhoun Memorial Airport, AK

(Lat. 65°10′28″ N, long. 152°06′29″ W)

That airspace within a 5.1-mile radius of the airport and within 3.6 miles each side of the airport's 233° bearing extending from the 5.1-mile radius to 6.5 miles southwest of the airport. This Class E airspace area is effective during the specific dates and times established in advance by a Notice to Air Missions. The effective date and time will thereafter be continuously published in the Chart Supplement.

* * * * *

Paragraph 6005 Class E Airspace Areas Extending Upward From 700 Feet or More Above the Surface of the Earth.

* * * * *

AAL AK E5 Tanana, AK [Amended]

Ralph M. Calhoun Memorial Airport, AK

(Lat. 65°10′28″ N, long. 152°06′29″ W)

That airspace extending upward from 700 feet above the surface within a 6.6-mile radius of the airport and within 1.9 miles each side of the airport's 101° bearing extending from the 6.6-mile radius to 10.5 miles east of the airport; that airspace extending upward from 1,200 feet above the surface within a 73-mile radius of the airport.

* * * * *

Issued in Des Moines, Washington, on December 18, 2023.
B.G. Chew,
Group Manager, Operations Support Group, Western Service Center.

[FR Doc. 2023-28218 Filed 12-21-23; 8:45 am]

BILLING CODE 4910-13-P